DEPARTMENT OF COMMERCE

National Institute of Standards and Technology

Open Meetings of the Internet of Things Advisory Board

AGENCY: National Institute of Standards and Technology (NIST).

ACTION: Notice of open meetings.

SUMMARY: The Internet of Things (IoT) Advisory Board will meet August 22-23, 2023, and September 26-27, 2023, from 11 a.m. until 5 p.m., eastern time. All sessions will be open to the public.

DATES: The meetings will be held on August 22-23, 2023, and September 26-27, 2023, from 11 a.m. until 5 p.m., eastern time.

ADDRESSES: The meetings will be conducted virtually via Webex webcast hosted by the National Cybersecurity Center of Excellence (NCCoE) at NIST. Please note registration instructions under the SUPPLEMENTARY INFORMATION section of this notice.

FOR FURTHER INFORMATION CONTACT: Barbara Cuthill, Information Technology Laboratory, National Institute of Standards and Technology, Telephone: (301) 975-3273, Email address: barbara.cuthill@nist.gov.

SUPPLEMENTARY INFORMATION: Pursuant to the Federal Advisory Committee Act, as amended, 5 U.S.C. 1001 et seq., notice is hereby given that the IoT Advisory Board will hold open meetings on Tuesday, August 22 and Wednesday, August 23, 2023; and Tuesday, September 26, 2023, and Wednesday, September 27, 2023, from 11 a.m. until 5 p.m., eastern time. All sessions will be open to the public. The IoT Advisory Board is authorized by section 9204(b)(5) of the William M. (Mac) Thornberry National Defense Authorization Act for Fiscal Year 2021 (Pub. L. 116-283) and advises the IoT Federal Working Group convened by the Secretary of Commerce pursuant to section 9204(b)(1) of the Act on matters related to the Federal Working Group's activities. Details regarding the IoT Advisory Board's activities are available at https://www.nist.gov/itl/applied-cybersecurity/nist-cybersecurity-iot-program/internet-things-advisory-board.

The agendas for the August and September meetings are expected to focus on establishing consensus on the recommendations to be included in the IoT Advisory Board's report for the IoT Federal Working Group.

The recommendations and discussions are expected to focus on the specific focus areas for the report cited in the legislation and the charter:

• Smart traffic and transit technologies.

• Augmented logistics and supply chains.

• Sustainable infrastructure.

• Precision agriculture.

• Environmental monitoring.

• Public safety.

• Health care.

In addition, the IoT Advisory Board may discuss other elements that the legislation called for in the report:

• whether adequate spectrum is available to support the growing Internet of Things and what legal or regulatory barriers may exist to providing any spectrum needed in the future;

• policies, programs, or multi-stakeholder activities that—

○ promote or are related to the privacy of individuals who use or are affected by the Internet of Things;

○ may enhance the security of the Internet of Things, including the security of critical infrastructure;

○ may protect users of the Internet of Things; and

○ may encourage coordination among Federal agencies with jurisdiction over the Internet of Things.

Note that agenda items may change without notice. The final agendas will be posted on the IoT Advisory Board web page: https://www.nist.gov/itl/applied-cybersecurity/nist-cybersecurity-iot-program/internet-things-advisory-board.

Public Participation: Written comments from the public are invited and may be submitted electronically by email to Barbara Cuthill at the contact information indicated in the FOR FURTHER INFORMATION CONTACT section of this notice by 5 p.m. on August 15 for the August meeting, or by 5 p.m. on September 19 for the September meeting, for advance distribution to members.

Each IoT Advisory Board meeting agenda will include a period, not to exceed sixty minutes, for submitted comments from the public to be presented. Submitted comments from the public will be selected on a first-come, first-served basis and limited to five minutes per person for oral presentation if requested by the commenter.

Members of the public who wish to expand upon their submitted statements, those who had wished to submit a comment but could not be accommodated on the agenda, and those who were unable to attend the meeting via webinar are invited to submit written statements. In addition, written statements are invited and may be submitted to the IoT Advisory Board at any time. All written statements should be directed to the IoT Advisory Board Secretariat, Information Technology Laboratory by email to: Barbara.Cuthill@nist.gov.

Admittance Instructions: Participants planning to attend via webinar must register via the instructions found on the IoT Advisory Board's page https://www.nist.gov/itl/applied-cybersecurity/nist-cybersecurity-iot-program/internet-things-advisory-board.

Alicia Chambers,
NIST Executive Secretariat.

[FR Doc. 2023-13868 Filed 6-28-23; 8:45 am]

BILLING CODE 3510-13-P